ENVIRONMENTAL PROTECTION AGENCY

[FRL-7119-8]

EPA Science Advisory Board; Notification of Public Advisory Committee Meeting

Pursuant to the Federal Advisory Committee Act, Public Law 92-463, notice is hereby given that the Executive Committee (EC) of the US EPA Science Advisory Board (SAB) will conduct a public teleconference meeting on Friday, January 11, 2002 from 11 am to 1:30 pm Eastern Daylight Time. The meeting will be coordinated through a conference call connection in Room 6013 in the USEPA, Ariel Rios Building, 1200 Pennsylvania Ave, NW, Washington, DC 20004. The public is encouraged to attend the meeting in the conference room noted above. However, the public may also attend through a telephonic link, to the extent that lines are available. Additional instructions about how to participate in the conference call can be obtained by calling Ms. Diana Pozun (202-564-4544) or e-mail at pozun.diana@epa.gov. The meeting is open to the public, however, seating is limited and available on a first come basis.

Purpose of the Meeting: (a) The Executive Committee plans to review a draft outline for a manual to guide formation of SAB panels. This draft outline was prepared by the SAB's Policy and Procedures Subcommittee (PPS).

(b) Although not confirmed at the time this FR Notice was prepared, the EC may also review a draft Commentary from the SAB's Environmental Economics Advisory Committee (EEAC) on the topic: Importance of Maintaining the Annual Pollution Abatement and Control Expenditures (PACE) Survey. This Commentary was prepared from discussions at the EEAC meeting on November 30, 2001 (please see 66 FR 54243, dated October 26, 2001 for details of that meeting). Please see the SAB Web site (see below) to determine if this draft Commentary will be on the agenda for the meeting, and to obtain a copy.

Please check with Diana Pozun (see contact information below) prior to the meeting to determine if any other reports will be on the agenda as last minute changes can take place.

Availability of Review Materials: Drafts of both review documents (items “a” and “b” above) will be available to the public on the SAB Website (http://www.epa.gov/sab) approximately two weeks prior to the meeting. A draft meeting agenda will be posted on the same website approximately a week prior to the meeting.

For Further Information—Any member of the public wishing further information concerning this meeting or wishing to submit brief oral comments (3 minutes or less) must contact Dr. Donald Barnes, Designated Federal Officer, EPA Science Advisory Board (1400A), U.S. Environmental Protection Agency, 1200 Pennsylvania Avenue, NW., Washington, DC 20460; telephone (202) 564-4533; FAX (202) 501-0323; or via e-mail at barnes.don@epa.gov. Requests for oral comments must be in writing (e-mail, fax, or mail) and received by Dr. Barnes no later than noon Eastern Daylight Time on January 4, 2002. Information on availability of review materials and the draft meeting agenda can be obtained from Ms. Diana Pozun, EPA Science Advisory Board, Mail Code 1400A, U.S. Environmental Protection Agency, 1200 Pennsylvania Avenue, NW., Washington, DC 20460 (Telephone (202) 564-4544, FAX (202) 501-0323; or via e-mail at: pozun.diana@epa.gov.

Providing Oral or Written Comments at SAB Meetings

It is the policy of the EPA Science Advisory Board to accept written public comments of any length, and to accommodate oral public comments whenever possible. The EPA Science Advisory Board expects that public statements presented at its meetings will not be repetitive of previously submitted oral or written statements. Oral Comments: In general, each individual or group requesting an oral presentation at a face-to-face meeting will be limited to a total time of ten minutes (unless otherwise indicated). For teleconference meetings, opportunities for oral comment will usually be limited to no more than three minutes per speaker and no more than fifteen minutes total. Deadlines for getting on the public speaker list for a meeting are given above. Speakers should bring at least 35 copies of their comments and presentation slides for distribution to the reviewers and public at the meeting. Written Comments: Although the SAB accepts written comments until the date of the meeting (unless otherwise stated), written comments should be received in the SAB Staff Office at least one week prior to the meeting date so that the comments may be made available to the committee for their consideration. Comments should be supplied to the appropriate DFO at the address/contact information noted above in the following formats: one hard copy with original signature, and one electronic copy via e-mail (acceptable file format: WordPerfect, Word, or Rich Text files (in IBM-PC/Windows 95/98 format). Those providing written comments and who attend the meeting are also asked to bring 25 copies of their comments for public distribution.

General Information—Additional information concerning the EPA Science Advisory Board, its structure, function, and composition, may be found on the SAB Web site (http://www.epa.gov/sab) and in The FY2000 Annual Report of the Staff Director which is available from the SAB Publications Staff at (202) 564-4533 or via fax at (202) 501-0256. Committee rosters, draft Agendas and meeting calendars are also located on our Web site.

Meeting Access—Individuals requiring special accommodation at this meeting, including wheelchair access to the conference room, should contact Dr. Barnes at least five business days prior to the meeting so that appropriate arrangements can be made.

Dated: December 13, 2001.
Donald G. Barnes,
Staff Director, EPA Science Advisory Board.

[FR Doc. 01-31243 Filed 12-18-01; 8:45 am]

BILLING CODE 6560-50-P